COMMITTEE FOR PURCHASE FROM PEOPLE WHO ARE BLIND OR SEVERELY DISABLED

Procurement List Additions

AGENCY: Committee For Purchase From People Who Are Blind Or Severely Disabled.

ACTION: Additions to Procurement List.

SUMMARY: This action adds to the Procurement List products and services to be furnished by nonprofit agencies employing persons who are blind or have other severe disabilities.

DATES: Effective September 11, 2005.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Sheryl D. Kennerly, Telephone: (703) 603-7740, Fax: (703) 603-0655, or e-mail SKennerly@jwod.gov.

SUPPLEMENTARY INFORMATION: On June 10, and June 17, 2005, the Committee for Purchase From People Who Are Blind or Severely Disabled published notice (70 FR 33883 and 35223-35224) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Case, Belt Weather Kit,

NSN: 8465-00-521-3057F—Case, Belt Weather Kit (set aside & used as kit components);

NSN: 8465-00-521-3057—Case, Belt Weather Kit.

NPA: The Shangri-La Corporation, Salem, Oregon.

Contracting Activity: GSA, Southwest Supply Center, Fort Worth, Texas.

Oxo Good Grip Silicone Spatula,

NSN: M.R. 869—Oxo Good Grip Silicone Spatula.

Oxo Good Grip Spoon Spatula,

NSN: M.R. 868—Oxo Good Grip Spoon Spatula.

NPA: Cincinnati Association for the Blind, Cincinnati, Ohio.

Contracting Activity: Defense Commissary Agency (DeCA), Fort Lee, Virginia.

Spice, Black Pepper,

NSN: 8950-01-E60-8235—Cracked, 18 oz plastic container;

NSN: 8950-01-E60-7767—Ground, Gourmet, 16 oz plastic container;

NSN: 8950-01-E60-7766—Ground, Gourmet, 16 oz metal can;

NSN: 8950-01-E60-7770—Ground, Gourmet, 5 lb plastic container;

NSN: 8950-01-E60-7765—Ground, Gourmet, 1.5 oz plastic container;

NSN: 8950-01-E60-8234—Cracked, 18 oz metal container;

NSN: 8950-01-E60-7769—Ground, Gourmet, 18 oz plastic container;

NSN: 8950-01-E60-8236—Cracked, 16 oz metal container;

NSN: 8950-01-E60-8237—Cracked, 16 oz plastic container;

NSN: 8950-01-E60-8238—Whole, 16 oz metal container;

NSN: 8950-01-E60-8240—Whole, 18 oz metal container;

NSN: 8950-01-E60-8239—Whole, 16 oz plastic container;

NSN: 8950-01-E60-8241—Whole, 18 oz plastic container;

NSN: 8950-01-E60-7768—Ground, Gourmet, 18 oz metal container.

NPA: Continuing Developmental Services, Inc., Fairport, New York.

Contracting Activity: Defense Supply Center Philadelphia, Philadelphia, Pennsylvania.

Services

Service Type/Location: Custodial Services, (at the following locations for General Services Administration, Washington, DC): Central Heating & Refrigeration Plant, 13th & C Streets, SW.; Parking Lot, 12th & C Streets, SW.

NPA: Anchor Mental Health Association (Anchor Services Workshop), Washington, DC.

Contracting Activity: GSA—Heating, Operation & Transmission Department, Washington, DC.

Service Type/Location: Custodial Services, U.S. Coast Guard Marine Safety Office, 9640 Clinton Drive, Galena, Texas.

NPA: On Our Own Services, Inc., Houston, Texas.

Contracting Activity: U.S. Coast Guard Integrated Support Command, New Orleans, Louisiana.

Service Type/Location: Custodial Services, (at the following U.S. Department of Agriculture locations in Puerto Rico): #257 Aduana Street, Mayaguez, PR; Aguadila Station/Borinquen, Hangar 35—Pax Terminal, Aguadilla, PR; Eugenio Maria de Hostos International Airport, Main Terminal Building Mayaguez Airport, Mayaguez, PR; Mercedita International Airport, Main Terminal Building, Mercedita, PR.

NPA: The Corporate Source, Inc., New York, New York.

Contracting Activity: USDA, Animal & Plant Health Inspection Service, Minneapolis, MN.

Service Type/Location: Custodial Services, USDA, Animal and Plant Health Inspection Service, Otis Methods Development Center, Building 1398, Otis ANGB, MA.

NPA: Nauset, Inc., Hyannis, MA.

Contracting Activity: USDA, Animal & Plant Health Inspection Service, Minneapolis, MN.

Service Type/Location: Document Destruction, NISH, Vienna, Virginia (prime contractor), performance to be allocated to the Nonprofit Agencies identified at the following locations: VA Administration #2, 2455 W. Cheyenne, Ste. 102, Las Vegas, NV; VA Administration, 1841 E. Craig Road, Ste. B Warehouse, Las Vegas, NV; VA Central Clinic, 901 Rancho Lane, Las Vegas, NV; VA North Clinic, 916 W. Owens Avenue, Las Vegas, NV; VA West Clinic, 630 S. Rancho Road, Las Vegas, NV;

NPA: Opportunity Village Association for Retarded Citizens, Las Vegas, Nevada; VA Loma Linda Healthcare System, 11201 Benton Street, Loma Linda, CA;

NPA: Goodwill Industries of Southern California, Los Angeles, California.

Contracting Activity: Department of Veterans Affairs, VISN 22 Long Beach, Long Beach, California.

Service Type/Location: Document Destruction, NISH, Vienna, Virginia (prime contractor), performance to be allocated to the Nonprofit Agencies identified at the following locations: VA Colorado Springs Clinic, 25 Spruce Street, Colorado Springs, Colorado; VA Eastern Colorado Health Care System (ECHCS), 1055 Clermont Street, Denver, Colorado.

NPA: Bayaud Industries, Inc., Denver, Colorado, VA Salt Lake City Health Care System, 500 Foothill Blvd., Salt Lake City, Utah.

NPA: Community Foundation for the Disabled, Inc., Salt Lake City, Utah.

Contracting Activity: Department of Veterans Affairs, VISN 19 Consolidated Contracting Activity, Glendale, Colorado.

Service Type/Location: Food Service Attendant, 115th Fighter Wing, Building 510, Truax Field, Wisconsin Air National Guard, Madison, Wisconsin.

NPA: Madison Area Rehabilitation Centers, Inc., Madison, Wisconsin.

Contracting Activity: Wisconsin Air National Guard, 115th Fighter Wing MSG/MSC, Madison, Wisconsin.

Service Type/Location: Janitorial/Custodial, Altmeyer Federal Building, 6401 Security Blvd., Woodlawn, Maryland.

NPA: Sinai Hospital of Baltimore (Vocational Services Program), Baltimore, Maryland.

Contracting Activity: Social Security Administration, Baltimore, Maryland.

This action does not affect current contracts awarded prior to the effective date of this addition or options that may be exercised under those contracts.

Sheryl D. Kennerly,
Director, Information Management.

[FR Doc. E5-4379 Filed 8-11-05; 8:45 am]

BILLING CODE 6353-01-P